POSTAL REGULATORY COMMISSION

[Docket No. T2021-1; Order No. 5817]

Income Tax Review

AGENCY: Postal Regulatory Commission.

ACTION: Notice.

SUMMARY: The Commission is recognizing a recent Postal Service filing concerning the calculation of the assumed Federal income tax on competitive products income for Fiscal Year 2020. This notice informs the public of the filing, invites public comment, and takes other administrative steps.

DATES: Comments are due: March 5, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

In accordance with 39 U.S.C. 3634 and 39 CFR 3060.40 et seq., the Postal Service filed its calculation of the assumed Federal income tax on competitive products income for fiscal year (FY) 2020.¹ The calculation details the FY 2020 competitive product revenue and expenses, the competitive products net income before tax, and the assumed Federal income tax on that net income.

¹ See Notice of the United States Postal Service of Submission of the Calculation of the FY 2020 Assumed Federal Income Tax on Competitive Products, January 14, 2021.

II. Notice of Commission Action

In accordance with 39 CFR 3060.42, the Commission establishes Docket No. T2021-1 to review the calculation of the assumed Federal income tax and supporting documentation.

The Commission invites comments on whether the Postal Service's filing in this docket is consistent with the policies of 39 U.S.C. 3634 and 39 CFR 3060.40 et seq. Comments are due no later than March 5, 2021. The Postal Service's filing can be accessed via the Commission's website (http://www.prc.gov).

The Commission appoints Jennaca D. Upperman to serve as Public Representative in this docket.

III. Ordering Paragraphs

It is ordered:

1. The Commission establishes Docket No. T2021-1 to consider the calculation of the assumed Federal income tax on competitive products for FY 2020.

2. Pursuant to 39 U.S.C. 505, Jennaca D. Upperman is appointed to serve as an officer of the Commission to represent the interests of the general public in this proceeding (Public Representative).

3. Comments are due no later than March 5, 2021.

4. The Secretary shall arrange for publication of this Order in the Federal Register.

By the Commission.
Erica A. Barker,
Secretary.

[FR Doc. 2021-01390 Filed 1-21-21; 8:45 am]

BILLING CODE 7710-FW-P